DEPARTMENT OF THE INTERIOR

Bureau of Land Management

[LLCAD00000; L19900000.AL0000]

Notice of Call for Nominations for Bureau of Land Management's California Desert District Advisory Council

AGENCY: Bureau of Land Management, Interior.

ACTION: Notice.

SUMMARY: The Bureau of Land Management's (BLM) California Desert District is soliciting nominations from the public to fill five seats for 3-year terms on its District Advisory Council from 2010-2012. Council members provide advice and recommendations to the BLM on the management of public lands in Southern California.

DATES: Nominations will be accepted through Friday, April 21, 2010.

ADDRESSES: Nominations should be sent to the District Manager, Bureau of Land Management, California Desert District Office, 22835 Calle San Juan De Los Lagos, Moreno Valley, California 92553.

FOR FURTHER INFORMATION CONTACT: David Briery, BLM California Desert District External Affairs, at (951) 697-5220.

SUPPLEMENTARY INFORMATION: The California Desert District Advisory Council consists of 15 private individuals who represent different interests and advise BLM officials on policies and programs concerning the management of 11 million acres of public land in Southern California. The Council meets in formal session three to four times each year in various locations throughout the California Desert District. Members serve a 3-year term and may be nominated for reappointment for an additional 3-year term.

Section 309 of the Federal Land Policy and Management Act directs the Secretary of the Interior (Secretary) to involve the public in planning and issues related to management of BLM-administered lands. The Secretary also selects council nominees consistent with the requirements of the Federal Advisory Committee Act, which requires that nominees appointed to the Council be fairly balanced in terms of points of view and representative of the various interests concerned with the management of the public lands.

The Council also is balanced geographically, and the BLM will try to find qualified representatives from areas throughout the California Desert District (District). The District covers portions of eight counties, and includes about 11 million acres of public land in the California Desert Conservation Area and 300,000 acres of scattered parcels in San Diego, western Riverside, western San Bernardino, Orange, and Los Angeles Counties (known as the South Coast).

The 3-year term would begin immediately upon appointment by the Secretary.

The five positions to be filled include:

—One renewable resources representative

—one elected official

—one environmental protection representative

—two members of the public-at-large

Any group or individual may nominate a qualified person. A person must be qualified through education, training, knowledge, or experience to give informed and objective advice regarding an industry, discipline, or interest specified in the council's charter; have demonstrated experience or knowledge of the geographical area under the purview of the advisory council; have demonstrated a commitment to collaborate in seeking solutions to a wide spectrum of resource management issues; and have the ability to represent their designated constituency. Qualified individuals also may nominate themselves.

Nominations must include the name of the nominee; work and home addresses; email and telephone numbers; a biographical sketch that includes the nominee's work and public service record; any applicable outside interests or other information that demonstrates the nominee's qualifications for the position; and the specific category of interest in which the nominee is best qualified to offer advice and counsel. Nominees may contact the BLM California Desert District External Affairs staff at (951) 697-5220 or write to the address listed above and request a copy of the nomination form.

All nominations must be accompanied by letters of reference from represented interests, organizations, or elected officials supporting the nomination. Individuals nominating themselves must provide at least one letter of recommendation. The Obama Administration prohibits individuals who are currently federally registered lobbyists to serve on all FACA and non-FACA boards, committees or councils.

Jack L. Hamby,
Acting District Manager.

[FR Doc. 2010-2853 Filed 2-10-10; 8:45 am]

BILLING CODE 4310-40-P